DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Division Director of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Arizona:
Pima (FEMA Docket No. B-7750) | Town of Marana (07-09-1759P) | September 6, 2007; September 13, 2007; The Daily Territorial | The Honorable Ed Honea, Mayor, Town of Marana, Marana Municipal Complex, 11555 West Civic Center Drive, Marana, AZ 85653 | December 13, 2007 | 040118
Pima (FEMA Docket No. B-7750) | Unincorporated areas of Pima County (07-09-1759P) | September 6, 2007; September 13, 2007; The Daily Territorial | The Honorable Richard Elias, Chairman, Pima County Board of Supervisors, 130 West Congress Street, 11th Floor, Tucson, AZ 85701 | December 13, 2007 | 040073
California:
Riverside (FEMA Docket No: B-7761) | City of Perris (07-09-0955P) | November 8, 2007; November 15, 2007; The Press-Enterprise | The Honorable Daryl R. Busch, Mayor, City of Perris, 101 North D Street, Perris, CA 92570 | February 14, 2008 | 060258
Riverside (FEMA Docket No. B-7761) | Unincorporated areas of Riverside County (07-09-0955P) | November 8, 2007; November 15, 2007; The Press-Enterprise | The Honorable John F. Tavaglione, Chairman, Board of Supervisors Riverside County, 4080 Lemon Street, Fifth Floor, Riverside, CA 92501 | February 14, 2008 | 060245
San Diego (FEMA Docket No: B-7750) | City of Carlsbad (07-09-1622P) | October 4, 2007; October 11, 2007; San Diego Daily Transcript | The Honorable Claude A. Lewis, Mayor, City of Carlsbad, 1200 Carlsbad Village Drive, Carlsbad, CA 92008 | September 24, 2007 | 060285
San Diego (FEMA Docket No: B-7750) | City of San Marcos (07-09-1622P) | October 4, 2007; October 11, 2007; San Diego Daily Transcript | The Honorable James Desmond, Mayor, City of San Marcos, One Civic Center Drive, San Marcos, CA 92069 | September 24, 2007 | 060296
San Diego (FEMA Docket No: B-7750) | Unincorporated areas of San Diego County (07-09-1622P) | October 4, 2007; October 11, 2007; San Diego Daily Transcript | The Honorable Ron Roberts, Chairman, San Diego County Board of Supervisors, 1600 Pacific Highway, Room 335, San Diego, CA 92101 | September 24, 2007 | 060284
San Diego (FEMA Docket No: B-7754) | Unincorporated areas of San Diego County (07-09-1709P) | October 11, 2007; October 18, 2007; San Diego Daily Transcript | The Honorable Ron Roberts, Chairman, San Diego County Board of Supervisors, 1600 Pacific Highway, Room 335, San Diego, CA 92101 | January 17, 2008 | 060284
Shasta (FEMA Docket No: B-7754) | City of Anderson (07-09-1859P) | October 17, 2007; October 24, 2007; Tri-Valley Post | The Honorable Keith Webster, Mayor, City of Anderson, 1887 Howard Street, Anderson, CA 96007 | January 22, 2008 | 060359
Stanislaus (FEMA Docket No: B-7754) | Unincorporated areas of Stanislaus County (08-09-0041X) | October 18, 2007; October 25, 2007; The Modesto Bee | The Honorable William O'Brien, Chairman of the Board of Supervisors, 1010 Tenth Street, Suite 6500, Modesto, CA 95354 | October 19, 2007 | 060384
Ventura (FEMA Docket No: B-7754) | City of Simi Valley (07-09-1419P) | October 18, 2007; October 25, 2007; Ventura County Star | The Honorable Paul Miller, Mayor, City of Simi Valley, 2929 Tapo Canyon Road, Simi Valley, CA 93063 | January 24, 2008 | 060421
Colorado:
El Paso (FEMA Docket No: B-7754) | City of Colorado Springs (07-08-0414P) | October 10, 2007; October 17, 2007; El Paso County Advertiser and News | The Honorable Lionel Rivera, Mayor, City of Colorado Springs, P.O. Box 1575, Colorado Springs, CO 80901 | January 16, 2008 | 080060
El Paso (FEMA Docket No: B-7754) | Unincorporated areas of El Paso County (07-08-0414P) | October 10, 2007; October 17, 2007; El Paso County Advertiser and News | The Honorable Dennis Hisey, Chairman, El Paso County Board of Commissioners, 27 East Vermijo Avenue, Colorado Springs, CO 80903-2208 | January 16, 2008 | 080059
Jefferson (FEMA Docket No: B-7761) | City of Lakewood (07-08-0666P) | November 15, 2007; November 22, 2007; The Golden Transcript | The Honorable Steve Burkholder, Mayor, City of Lakewood, Lakewood Civic Center South, 480 South Allison Parkway, Lakewood, CO 80226 | February 21, 2008 | 085075
Connecticut: New Haven (FEMA Docket No: B-7761) | Town of Branford (07-01-0657P) | October 4, 2007; October 11, 2007; New Haven Register | The Honorable Cheryl Morris, First Selectwoman, Town of Branford, 1019 Main Street, Branford, CT 06405 | September 19, 2007 | 090073
Florida:
Duval (FEMA Docket No: B-7761) | City of Jacksonville (07-04-2369P) | November 12, 2007; November 19, 2007; Jacksonville Daily Record | The Honorable John Peyton, Mayor, City of Jacksonville, City Hall at Saint James, Fourth Floor, 117 West Duval Street, Jacksonville, FL 32202 | February 19, 2008 | 120077
Polk (FEMA Docket No: B-7761) | City of Davenport (07-04-5360P) | November 7, 2007; November 14, 2007; The Polk County Democrat | The Honorable Peter Rust, Mayor, City of Davenport, P.O. Box 125, Davenport, FL 33836-0125 | October 29, 2007 | 120410
Sarasota (FEMA Docket No: B-7754) | Unincorporated areas of Sarasota County (07-04-3837P) | October 11, 2007; October 18, 2007; Sarasota Herald-Tribune | The Honorable Nora Patterson, Chairman, Sarasota County Board of Commissioners, 1660 Ringling Boulevard, Sarasota, FL 34236 | January 17, 2008 | 125144
St. Johns (FEMA Docket No: B-7754) | Unincorporated areas of St. Johns County (07-04-5711P) | October 18, 2007; October 25, 2007; The St. Augustine Record | The Honorable Ben Rich, Chairman, Saint Johns County Board of Commissioners, 4020 Lewis Speedway, Saint Augustine, FL 32084 | September 28, 2007 | 125147
Illinois:
St. Clair (FEMA Docket No: B-7754) | City of Belleville (06-05-C230P) | October 18, 2007; October 25, 2007; Belleville News-Democrat | The Honorable Mark W. Eckert, Mayor, City of Belleville, 101 South Illinois Street, Belleville, IL 62220 | January 24, 2008 | 170618
St. Clair (FEMA Docket No: B-7754) | City of O'Fallon (07-05-4876P) | October 18, 2007; October 25, 2007; Belleville News-Democrat | The Honorable Gary L. Graham, Mayor, City of O'Fallon, 255 South Lincoln Avenue, O'Fallon, IL 62269 | September 28, 2007 | 170633
St. Clair (FEMA Docket No: B-7754) | Unincorporated areas of St. Clair County (06-05-C230P) | October 18, 2007; October 25, 2007; Belleville News-Democrat | The Honorable Mark Kern, Chairman, St. Clair County Board of Supervisors, County Courthouse, 10 Public Square, Belleville, IL 62220-1623 | January 24, 2008 | 170616
Will (FEMA Docket No: B-7754) | Village of Mokena (07-05-5016P) | October 11, 2007; October 18, 2007; The Herald News | The Honorable Joseph W. Werner, Village President, Village of Mokena, 11004 Carpenter Street, Mokena, IL 60448 | September 21, 2007 | 170705
Maine: Lincoln (FEMA Docket No: B-7761) | Town of Bristol (07-01-0799P) | November 8, 2007; November 15, 2007; The Lincoln County News | The Honorable Chad Hanna, Chairman, Board of Selectmen, Town of Bristol, P.O. Box 147, Bristol, ME 04539 | October 23, 2007 | 230215
Maryland: Cecil (FEMA Docket No: B-7754) | Unincorporated areas of Cecil County (06-03-B926P) | October 18, 2007; October 25, 2007; Cecil Whig | The Honorable William C. Manlove, President, Cecil County Board of Commissioners, 107 North Street, Elkton, MD 21921 | January 24, 2008 | 240019
Massachusetts:
Berkshire (FEMA Docket No: B-7754) | City of Pittsfield (07-01-0973P) | October 18, 2007; October 25, 2007; The Berkshire Eagle | The Honorable James M. Ruberto, Mayor, City of Pittsfield, 70 Allen Street, Pittsfield, MA 01201 | January 24, 2008 | 250037
Bristol (FEMA Docket No: B-7761) | Town of Easton (07-01-0531P) | November 9, 2007; November 16, 2007; The Easton Journal | The Honorable Colleen A. Corona, Chairman, Board of Selectmen, Town of Easton, 136 Elm Street, North Easton, MA 02356 | February 15, 2008 | 250053
Suffolk (FEMA Docket No: B-7754) | City of Revere (07-01-0489P) | October 10, 2007; October 17, 2007; The Revere Journal | The Honorable Thomas G. Ambrosino, Mayor, City of Revere, City Hall, 281 Broadway, Revere, MA 02151 | September 20, 2007 | 250288
Michigan: Oakland (FEMA Docket No: B-7754) | Township of West Bloomfield (07-05-3615P) | October 17, 2007; October 24, 2007; Spinal Column Newsweekly | The Honorable David Flaisher, Supervisor, Township of West Bloomfield, P.O. Box 250130, West Bloomfield, MI 48325-0130 | October 2, 2007 | 260182
Minnesota:
Benton (FEMA Docket No: B-7754) | City of St. Cloud (06-05-B082P) | October 17, 2007; October 24, 2007; St. Cloud Times | The Honorable Dave Kleis, Mayor, City of Saint Cloud, 400 Second Street South, Saint Cloud, MN 56301 | January 23, 2008 | 270456
Benton (FEMA Docket No: B-7754) | City of Sauk Rapids (06-05-B082P) | October 17, 2007; October 24, 2007; Sauk Rapids Herald | The Honorable Mark Campbell, Mayor, City of Sauk Rapids, 914 Arbor Way, Sauk Rapids, MN 56379 | January 23, 2008 | 270023
Benton (FEMA Docket No: B-7754) | Unincorporated areas of Benton County (06-05-B082P) | October 17, 2007; October 24, 2007; Sauk Rapids Herald | The Honorable Dick Soyka, Chairman of Benton County, 531 Dewey Street, P.O. Box 129, Foley, MN 56329 | January 23, 2008 | 270019
Hennepin (FEMA Docket No: B-7754) | City of Brooklyn Park (07-05-2478P) | October 18, 2007; October 25, 2007; Brooklyn Park Sun | The Honorable Steve Lampi, Mayor, City of Brooklyn Park, 1209 88th Avenue North, Brooklyn Park, MN 55424 | October 29, 2007 | 270152
Hennepin (FEMA Docket No: B-7754) | City of Edina (07-05-4704P) | October 18, 2007; October 25, 2007; Edina Sun-Current | The Honorable James Hovland, Mayor, City of Edina, 4801 West 50th Street, Edina, MN 55424 | September 28, 2007 | 270160
Hennepin (FEMA Docket No: B-7754) | City of Hopkins (07-05-4704P) | October 18, 2007; October 25, 2007; Hopkins Sun-Sailor | The Honorable Eugene Maxwell, Mayor, City of Hopkins, 1010 First Street South, Hopkins, MN 55343 | September 28, 2007 | 270166
Hennepin (FEMA Docket No: B-7754) | City of St. Louis Park (07-05-4704P) | October 18, 2007; October 25, 2007; St. Louis Park Sun-Sailor | The Honorable Jeff Jacobs, Mayor, City of St. Louis Park, 7300 Metro Boulevard, Suite 300, Edina, MN 55437-2302 | September 28, 2007 | 270184
Mississippi: DeSoto (FEMA Docket No: B-7754) | City of Southaven (07-04-4518P) | October 25, 2007; November 1, 2007; DeSoto Times Today | The Honorable Charles G. Davis, Mayor, City of Southaven, 8710 Northwest Drive, Southaven, MS 38671 | October 9, 2007 | 280331
Missouri:
Greene (FEMA Docket No: B-7761) | Unincorporated areas of Greene County (07-07-1448P) | November 8, 2007; November 15, 2007; Springfield News-Leader | The Honorable David Coonrod, Presiding Commissioner, Greene County, 933 North Robberson, Springfield, MO 65802 | February 14, 2008 | 290782
St. Louis (FEMA Docket No: B-7754) | City of Chesterfield (06-07-B578P) | October 11, 2007; October 18, 2007; The St. Louis Daily Record | The Honorable John Nations, Mayor, City of Chesterfield, 690 Chesterfield Parkway West, Chesterfield, MO 63017-0670 | January 17, 2008 | 290896
St. Louis (FEMA Docket No: B-7754) | City of Chesterfield (07-07-1386P) | October 11, 2007; October 18, 2007; The St. Louis Daily Record | The Honorable John Nations, Mayor, City of Chesterfield, 690 Chesterfield Parkway West, Chesterfield, MO 63017-0760 | September 27, 2007 | 290896
St. Louis (FEMA Docket No: B-7754) | Unincorporated areas of St. Louis County (06-07-B578P) | October 11, 2007; October 18, 2007; The St. Louis Daily Record | The Honorable Charlie A. Dooley, County Executive, St. Louis County, 41 South Central Avenue, Clayton, MO 63105 | January 17, 2008 | 290327
Montana:
Richland (FEMA Docket No: B-7754) | City of Sidney (07-08-0006P) | October 17, 2007; October 24, 2007; Sidney Herald | The Honorable Brett Smelser, Mayor, City of Sidney, 115 Second Street Southeast, Sidney, MT 59270 | January 23, 2008 | 300065
Richland (FEMA Docket No: B-7754) | Unincorporated areas of Richland County (07-08-0006P) | October 17, 2007; October 24, 2007; Sidney Herald | The Honorable Don Steppler, Chairman, Richland County Board of Commissioners, 201 West Main Street, Sidney, MT 59270 | January 23, 2008 | 300165
Nebraska:
Hall (FEMA Docket No: B-7754) | City of Grand Island (07-07-0780P) | October 18, 2007; October 25, 2007; The Grand Island Independent | The Honorable Margaret Hornady, Mayor, City of Grand Island, 100 East First Street, Grand Island, NE 68801 | September 28, 2007 | 310103
Lancaster (FEMA Docket No: B-7754) | City of Hickman (07-07-1852P) | October 25, 2007; November 1, 2007; Lincoln Journal Star | The Honorable Jim Hrouda, Mayor, City of Hickman, P.O. Box 127, Hickman, NE 68372 | November 5, 2007 | 310136
Lancaster (FEMA Docket No: B-7761) | City of Lincoln (07-07-0628P) | November 8, 2007; November 15, 2007; Lincoln Journal Star | The Honorable Chris Beutler, Mayor, City of Lincoln, 555 South 10th Street, Second Floor, Room 208, Lincoln, NE 68508 | October 24, 2007 | 315273
New Jersey:
Passaic (FEMA Docket No. B-7738) | Township of Little Falls (07-02-1082X) | August 9, 2007; August 16, 2007; The Record | The Honorable Eugene Kulick, Mayor, Township of Little Falls, Township Government Offices, 225 Main Street, Little Falls, NJ 07424 | November 15, 2007 | 340401
Passaic (FEMA Docket No. B-7738) | Borough of West Paterson (07-02-1082X) | August 9, 2007; August 16, 2007; The Record | The Honorable Pat Lapore, Mayor, Borough of West Paterson, Municipal Building, Five Brophy Lane, West Paterson, NJ 07424 | November 15, 2007 | 340412
New Mexico: Sandoval (FEMA Docket No. B-7750) | Unincorporated areas of Sandoval County (07-06-1048P) | September 20, 2007; September 27, 2007; The Santa Fe New Mexican | Ms. Debbie Hayes, County Manager, Sandoval County, P.O. Box 40, Bernalillo, NM 87004 | August 27, 2007 | 350055
North Carolina:
Alamance (FEMA Docket No. B-7745) | City of Burlington (06-04-BY00P) | May 15, 2007; May 22, 2007; The Times-News | The Honorable Stephen M. Ross, Mayor of the City of Burlington, P.O. Box 1358, 425 South Lexington Avenue, Burlington, North Carolina 27215 | August 20, 2007 | 370002
Dare (FEMA Docket No. B-7745) | Town of Nags Head (07-04-4138P) | June 21, 2007; June 28, 2007; The Coastland Times | Mr. Charles L. Cameron, Manager, Town of Nags Head, P.O. Box 99, 5401 South Croatan Highway, Nags Head, North Carolina 27959 | June 13, 2007 | 375356
Dare (FEMA Docket No. B-7745) | Unincorporated areas of Dare County (07-04-4138P) | June 21, 2007; June 28, 2007; The Coastland Times | Mr. Terry Wheeler, Manager, Dare County, P.O. Drawer 1000, 211 Budleigh Street, Manteo, North Carolina 27954 | June 13, 2007 | 375348
Durham (FEMA Docket No. B-7745) | City of Durham (07-04-2980P) | August 14, 2007; August 21, 2007; The Herald-Sun | The Honorable William V. Bell, Mayor of the City of Durham, Office of the Mayor, 101 City Hall Plaza, Durham, North Carolina 27701 | August 7, 2007 | 370086
Durham (FEMA Docket No. B-7745) | Unincorporated areas of Durham County (07-04-2980P) | August 14, 2007; August 21, 2007; The Herald-Sun | Mr. Michael M. Ruffin, Manager, Durham County, 200 East Main Street, 2nd Floor, Old Courthouse, Durham, North Carolina 27701 | August 7, 2007 | 370085
Mecklenburg (FEMA Docket No. B-7754) | Town of Huntersville (07-04-0542P) | October 15, 2007; October 22, 2007; The Charlotte Observer | The Honorable Kim Phillips, Mayor, Town of Huntersville, P.O. Box 667, Huntersville, NC 28078 | January 21, 2008 | 370478
Orange (FEMA Docket No. B-7745) | Unincorporated areas of Orange County (06-04-C141P) | July 31, 2007; August 7, 2007; Chapel Hill Herald | Mr. Moses Carey, Jr., Chairman of the Orange County Board of Commissioners, 200 South Cameron Street, Hillsborough, North Carolina 27278 | November 5, 2007 | 370342
Union (FEMA Docket No. B-7745) | Town of Indian Trail (06-04-BX22P) | May 15, 2007; May 22, 2007; The Enquirer Journal | The Honorable Sandy Moore, Mayor of the Town of Indian Trail, P.O. Box 2430, Indian Trail, North Carolina 28079 | August 21, 2007 | 370235
Union (FEMA Docket No. B-7745) | Unincorporated areas of Union County (06-04-BX22P) | May 15, 2007; May 22, 2007; The Enquirer Journal | Mr. Mike Shalati, Manager, Union County, 500 North Main Street, Room 925, Monroe, North Carolina 28112 | August 21, 2007 | 370234
Wake (FEMA Docket No. B-7745) | Town of Wake Forest (07-04-0615P) | August 2, 2007; August 9, 2007; The Wake Weekly | The Honorable Vivian A. Jones, Mayor of the Town of Wake Forest, 401 Elm Avenue, Wake Forest, North Carolina 27587 | November 7, 2007 | 370244
Ohio: Lake (FEMA Docket No. B-7754) | Village of Perry (07-05-0261P) | October 25, 2007; November 1, 2007; The News-Herald | The Honorable Lee Lydic, Mayor, Village of Perry, P.O. Box 100, Perry, OH 44081 | October 1, 2007 | 390320
Oklahoma:
Cleveland (FEMA Docket No. B-7761) | City of Moore (07-06-1082P) | November 8, 2007; November 15, 2007; The Norman Transcript | The Honorable Glenn Lewis, Mayor, City of Moore, 301 North Broadway, Moore, OK 73160 | February 14, 2008 | 400044
Tulsa (FEMA Docket No. B-7754) | City of Tulsa (07-06-2371P) | October 18, 2007; October 25, 2007; Tulsa World | The Honorable Kathy Taylor, Mayor, City of Tulsa, 200 Civic Center, Tulsa, OK 74103 | January 24, 2008 | 405381
Tulsa (FEMA Docket No. B-7754) | Unincorporated areas of Tulsa County (07-06-2371P) | October 18, 2007; October 25, 2007; Tulsa World | The Honorable Randi Miller, Chair, Tulsa County Board of Supervisors, 500 South Denver Avenue, Tulsa, OK 74103 | January 24, 2008 | 400462
Pennsylvania:
Bucks (FEMA Docket No. B-7754) | Township of Wrightstown (07-03-1222P) | October 18, 2007; October 25, 2007; Bucks County Courier Times | The Honorable Chester Pogonowski, Chairman, Board of Supervisors, Wrightstown Township, 2203 Second Street Pike, Wrightstown, PA 18940 | September 24, 2007 | 421045
Montgomery (FEMA Docket No. B-7761) | Township of Lower Moreland (07-03-0583P) | November 8, 2007; November 15, 2007; The Globe | The Honorable Kurt G. Mayer, President, Lower Moreland Township Commissioners, 640 Red Lion Road, Huntingdon Valley, PA 19006 | October 24, 2007 | 420702
South Carolina:
Horry (FEMA Docket No. B-7754) | City of Conway (07-04-4404P) | October 18, 2007; October 25, 2007; Horry Independent | The Honorable Gregory K. Martin, Mayor, City of Conway, P.O. Box 1075, Conway, SC 29528 | January 24, 2008 | 415106
Horry (FEMA Docket No. B-7754) | Unincorporated areas of Horry County (07-04-4404P) | October 18, 2007; October 25, 2007; Horry Independent | The Honorable Liz Gilland, Council Chairman, Horry County, 1511 Elm Street, Conway, SC 29526 | January 24, 2008 | 415104
Horry (FEMA Docket No. B-7754) | Unincorporated areas of Horry County (07-04-5516P) | October 18, 2007; October 25, 2007; Horry Independent | The Honorable Liz Gilland, Council Chairman, Horry County, 1511 Elm Street, Conway, SC 29526 | January 24, 2008 | 415104
Lexington (FEMA Docket No. B-7761) | Town of Springdale (07-04-5295P) | November 8, 2007; November 15, 2007; The Lexington County Chronicle | The Honorable Pat G. Smith, Mayor, Town of Springdale, 2915 Platt Springs Road, Springdale, SC 29170 | October 31, 2007 | 450138
Texas:
Cameron (FEMA Docket No. B-7754) | Village of Laguna Vista (08-06-0039P) | October 18, 2007; October 25, 2007; The Brownsville Herald | The Honorable David Privett, Mayor, Village of Laguna Vista, 122 Fernandez Street, Laguna Vista, TX 78578 | October 29, 2007 | 485483
Cameron (FEMA Docket No. B-7754) | Unincorporated areas of Cameron County (08-06-0039P) | October 18, 2007; October 25, 2007; The Brownsville Herald | The Honorable Carlos H. Cascos, CPA, Cameron County Judge, 1100 East Monroe Street, Second Floor, Brownsville, TX 78520 | October 29, 2007 | 480101
Collin (FEMA Docket No. B-7754) | City of Allen (07-06-1312P) | October 11, 2007; October 18, 2007; The Allen American | The Honorable Stephen Terrell, Mayor, City of Allen, 305 Century Parkway, Allen, TX 75013 | January 17, 2008 | 480131
Collin (FEMA Docket No. B-7761) | City of McKinney (07-06-1687P) | November 8, 2007; November 15, 2007; McKinney Courier-Gazette | The Honorable Bill Whitfield, Mayor, City of McKinney, 222 North Tennessee Street, McKinney, TX 75069 | February 14, 2008 | 480135
Collin (FEMA Docket No. B-7754) | City of Murphy (07-06-0453P) | October 17, 2007; October 24, 2007; Wylie News | The Honorable Bret Baldwin, Mayor, City of Murphy, 206 North Murphy Road, Murphy, TX 75094 | January 23, 2008 | 480137
Collin (FEMA Docket No. B-7761) | City of Plano (07-06-0629P) | November 8, 2007; November 15, 2007; Plano Star Courier | The Honorable Pat Evans, Mayor, City of Plano, 1520 Avenue K, Plano, TX 75074 | October 31, 2007 | 480140
Collin (FEMA Docket No. B-7754) | City of Plano (07-06-0947P) | October 11, 2007; October 18, 2007; Plano Star Courier | The Honorable Pat Evans, Mayor, City of Plano, 1520 Avenue K, Plano, TX 75074 | January 17, 2008 | 480140
Collin (FEMA Docket No. B-7754) | City of Plano (07-06-1312P) | October 18, 2007; October 25, 2007; Plano Star Courier | The Honorable Pat Evans, Mayor, City of Plano, 1520 Avenue K, Plano, TX 75074 | January 17, 2008 | 480140
Collin (FEMA Docket No. B-7761) | Unincorporated areas of Collin County (07-06-1687P) | November 8, 2007; November 15, 2007; McKinney Courier-Gazette | The Honorable Keith Self, Collin County Judge, Collin County Government Center, 210 South McDonald Street, Suite 626, McKinney, TX 75069 | February 14, 2008 | 480130
Harris (FEMA Docket No. B-7761) | Unincorporated areas of Harris County (07-06-1886P) | November 15, 2007; November 22, 2007; Houston Chronicle | The Honorable Ed Emmett, Harris County Judge, 1001 Preston, Suite 911, Houston, TX 77002 | February 20, 2008 | 480287
Hays (FEMA Docket No. B-7754) | City of Buda (07-06-1313P) | October 17, 2007; October 24, 2007; Hays Free Press | The Honorable Bobby Lane, Mayor Pro-Tem, City of Buda, 217 Arikara Street, Buda, TX 78610 | January 23, 2008 | 481640
Montgomery (FEMA Docket No. B-7750) | Unincorporated areas of Montgomery County (07-06-1001P) | September 12, 2007; September 19, 2007; The Montgomery County News | The Honorable Alan B. Sadler, County Judge, Montgomery County, 301 North Thompson, Suite 210, Conroe, TX 77301 | October 1, 2007 | 480483
Tarrant (FEMA Docket No. B-7761) | City of Arlington (07-06-1545P) | October 11, 2007; October 18, 2007; Arlington Star-Telegram | The Honorable Robert Cluck, Mayor, City of Arlington, 101 West Abram Street, Arlington, TX 76010 | September 28, 2007 | 485454
Tarrant (FEMA Docket No. B-7761) | City of Benbrook (07-06-1254P) | November 8, 2007; November 15, 2007; Fort Worth Star-Telegram | The Honorable Jerry Dittrich, Mayor, City of Benbrook, 911 Winscott Road, Benbrook, TX 76126 | February 14, 2008 | 480586
Tarrant (FEMA Docket No. B-7750) | City of Fort Worth (07-06-0930P) | September 20, 2007; September 27, 2007; Fort Worth Star-Telegram | The Honorable Mike J. Moncrief, Mayor, City of Fort Worth, 1000 Throckmorton Street, Fort Worth, TX 76102 | December 27, 2007 | 480596
Tarrant (FEMA Docket No. B-7761) | City of Fort Worth (07-06-1254P) | November 8, 2007; November 15, 2007; Fort Worth Star-Telegram | The Honorable Mike J. Moncrief, Mayor, City of Fort Worth, 1000 Throckmorton Street, Fort Worth, TX 76102 | February 14, 2008 | 480596
Tarrant (FEMA Docket No. B-7761) | City of Fort Worth (07-06-1675P) | November 8, 2007; November 15, 2007; Fort Worth Star-Telegram | The Honorable Mike J. Moncrief, Mayor, City of Fort Worth, 1000 Throckmorton Street, Fort Worth, TX 76102 | February 14, 2008 | 480596
Tarrant (FEMA Docket No. B-7750) | City of Fort Worth (07-06-1902P) | September 20, 2007; September 27, 2007; Fort Worth Star-Telegram | The Honorable Mike J. Moncrief, Mayor, City of Fort Worth, 1000 Throckmorton Street, Fort Worth, TX 76102 | August 31, 2007 | 480596
Tarrant (FEMA Docket No. B-7761) | City of Fort Worth (07-06-2141P) | November 8, 2007; November 15, 2007; Fort Worth Star-Telegram | The Honorable Michael Moncrief, Mayor, City of Fort Worth, City Hall, 1000 Throckmorton Street, Fort Worth, TX 76102 | February 14, 2008 | 480596
Tarrant (FEMA Docket No. B-7761) | City of Fort Worth (07-06-2202P) | October 11, 2007; October 18, 2007; Fort Worth Star-Telegram | The Honorable Michael Moncrief, Mayor, City of Fort Worth, City Hall, 1000 Throckmorton Street, Fort Worth, TX 76102 | January 17, 2008 | 480596
Tarrant (FEMA Docket No. B-7761) | Unincorporated areas of Tarrant County (07-06-1254P) | November 8, 2007; November 15, 2007; Fort Worth Star-Telegram | The Honorable Glen Whitley, Tarrant County Judge, 100 East Weatherford, Suite 501, Fort Worth, TX 76196 | February 14, 2008 | 480582
Tarrant (FEMA Docket No. B-7761) | Unincorporated areas of Tarrant County (07-06-2141P) | November 8, 2007; November 15, 2007; Fort Worth Star-Telegram | The Honorable Glen Whitley, Tarrant County Judge, 100 East Weatherford Street, Suite 501, Fort Worth, TX 76196 | February 14, 2008 | 480582
Travis (FEMA Docket No. B-7754) | Unincorporated areas of Travis County (07-06-0940P) | October 18, 2007; October 25, 2007; Austin American-Statesman | The Honorable Samuel T. Biscoe, Travis County Judge, 314 West 11th Street, Suite 520, Austin, TX 78701 | January 24, 2008 | 481026
Williamson (FEMA Docket No. B-7750) | City of Round Rock (07-06-2615P) | September 18, 2007; September 25, 2007; Round Rock Leader | The Honorable Nyle Maxwell, Mayor, City of Round Rock, 221 East Main Street, Round Rock, TX 78664 | December 26, 2007 | 481048
Williamson (FEMA Docket No. B-7750) | Unincorporated areas of Williamson County (07-06-2615P) | September 18, 2007; September 25, 2007; Round Rock Leader | The Honorable Dan A. Gattis, Williamson County Judge, 301 Southeast Inner Loop, Suite 109, Georgetown, TX 78626 | December 26, 2007 | 481079
Virginia:
Fauquier (FEMA Docket No. B-7750) | Unincorporated areas of Fauquier County (07-03-1036P) | September 12, 2007; September 19, 2007; Fauquier Times Democrat | Mr. Harry Atherton, Chairman, Fauquier County Board of Supervisors, Ten Hotel Street, Suite 208, Warrenton, VA 20186 | February 7, 2008 | 510055
Independent City (FEMA Docket No. B-7754) | City of Winchester (07-03-1291P) | October 18, 2007; October 25, 2007; The Winchester Star | The Honorable Elizabeth Minor, Mayor, City of Winchester, 422 National Avenue, Winchester, VA 22601 | January 24, 2008 | 510173
Montgomery (FEMA Docket No. B-7761) | Unincorporated areas of Montgomery County (07-03-1077P) | November 8, 2007; November 15, 2007; Roanoke Times | The Honorable Steve L. Spradlin, Chair, Montgomery County Board of Supervisors, 1553 Oilwell Road, Blacksburg, VA 24060 | February 14, 2008 | 510099
Wise (FEMA Docket No. B-7761) | Town of Wise (07-03-1197P) | November 8, 2007; November 15, 2007; The Coalfield Progress | The Honorable Clifton Carson, Mayor, Town of Wise, P.O. Box 1100, Wise, VA 24293 | February 14, 2008 | 510179
West Virginia: Jefferson (FEMA Docket No. B-7754) | Unincorporated areas of Jefferson County (07-03-0242P) | October 18, 2007; October 25, 2007; The Journal | The Honorable Frances Morgan, President, Jefferson County Commission, Post Office Box 250, Charles Town, WV 25414 | January 24, 2008 | 540065
Wisconsin: Milwaukee (FEMA Docket No. B-7761) | City of West Allis (07-05-4106P) | November 1, 2007; November 8, 2007; Milwaukee Journal Sentinel | The Honorable Jeannette Bell, Mayor, City of West Allis, City Hall, Room 123, 7525 West Greenfield Avenue, West Allis, WI 53214 | October 18, 2007 | 550285

(Catalog of Federal Domestic Assistance No. 97.022, “Flood Insurance.”)

Dated: March 31, 2008.
David I. Maurstad,
Federal Insurance Administrator of the National Flood Insurance Program, Department of Homeland Security, Federal Emergency Management Agency.

[FR Doc. E8-8332 Filed 4-17-08; 8:45 am]

BILLING CODE 9110-12-P